DEPARTMENT OF DEFENSE

Department of the Navy

Meeting of the Board of Visitors of Marine Corps University

AGENCY: Department of the Navy, DoD.

ACTION: Notice of open meeting.

SUMMARY: The Executive Committee of the Board of Visitors of the Marine Corps University (BOV MCU) will meet to receive the recommendations of the Officer Professional Military Education Study Group. The Board will receive the final written report from the three-month study of Marine Corps Professional Military Education. All sessions of the meeting will be open to the public.

DATES: The meeting will be held on Friday, September 29, 2006, from 1 p.m. to 4 p.m.

ADDRESSES: The meeting will be held at the Marine Corps University, 2076 South Street, Quantico, Virginia 22134, in the Hooper Room.

FOR FURTHER INFORMATION CONTACT: Ms. Mary Lanzillotta, Executive Secretary, Marine Corps University Board of Visitors, 2076 South Street, Quantico, Virginia 22134, telephone number 703-784-4037.

Dated: August 21, 2006.
M.A. Harvison,
Lieutenant Commander, Judge Advocate General's Corps, U.S. Navy, Federal Register Liaison Officer.

[FR Doc. 06-7281 Filed 8-30-06; 8:45 am]

BILLING CODE 3810-FF-P